DEPARTMENT OF HOUSING AND URBAN DEVELOPMENT

[Docket No. FR-4984-C-02]

Public Housing Graduation Incentive Bonus Program; Correction

AGENCY: Office of the Assistant Secretary for Public and Indian Housing, HUD.

ACTION: Notice of funding availability; correction.

SUMMARY: On June 2, 2005, HUD published its notice of funding availability (NOFA) for the Public Housing Graduation Incentive Bonus Program. In the NOFA, HUD inadvertently identified the Fort Worth, Texas, public housing authority (PHA) as an eligible medium PHA rather than an eligible large PHA. This notice corrects this error.

FOR FURTHER INFORMATION CONTACT: For questions and technical assistance, applicants may call the Public and Indian Housing Information and Resource Center at 800-955-2232. For the hearing- or speech-impaired, please call the Federal Relay Service at 800-877-8339. (These are toll-free numbers.)

SUPPLEMENTARY INFORMATION: On June 2, 2005 (70 FR 32470), HUD published its NOFA for the Public Housing Graduation Incentive Bonus Program. The deadline for application for this program was July 18, 2005. The purpose of the program is to invite PHAs to apply for a Graduation Incentive Bonus. The Graduation Incentive Bonus is granted to PHAs that can show their public housing residents are moving away from long-term dependence on housing assistance as evidenced by the proportion of households that leaves public housing and end their participation in assisted housing programs during calendar year 2004 as well as the average length of stay among public housing residents. The NOFA announced the availability of up to $10 million under the Graduation Incentive Bonus Program in fiscal year 2005. Eligible applicants are PHAs that operated a public housing program during calendar year 2004; have reported Public and Indian Housing Information Center (PIC) Family Household form HUD-50058 data for residents who ended their residency in public housing during calendar year 2004; have a minimum of 100 dwelling units in management status as reported in PIC as approved by the field office as of January 15, 2005; have a minimum of twenty-five Family Household form HUD-50058 records reported in PIC, and have met the minimum threshold criteria based upon its size category.

Subsequent to publication of the June 2, 2005, NOFA, HUD discovered that the Fort Worth, Texas PHA was improperly identified as an eligible medium PHA rather than an eligible large PHA in the appendix of the NOFA.

Accordingly, in the Public Housing Graduation Incentive Bonus Program, HUD will remove the Fort Worth, Texas PHA from the list of eligible medium PHAs and move it to the list of eligible large PHAs.

Dated: July 26, 2005.
Paula O. Blunt,
General Deputy Assistant Secretary for Public and Indian Housing.

[FR Doc. E5-4091 Filed 8-1-05; 8:45 am]

BILLING CODE 4210-33-P